DEPARTMENT OF HEALTH AND HUMAN SERVICES

Centers for Disease Control and Prevention

[30Day-08-0278]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Hospital Ambulatory Medical Care Survey [OMB No. 0920-0278]—Revision—National Center for Health Statistics (NCHS), Centers for Disease Control and Prevention (CDC).

Background and Brief Description

The National Hospital Ambulatory Medical Care Survey (NHAMCS) has been conducted annually since 1992. The purpose of NHAMCS is to meet the needs and demands for statistical information about the provision of ambulatory medical care services in the United States. Ambulatory services are rendered in a wide variety of settings, including physicians' offices and hospital outpatient and emergency departments. The target of the NHAMCS to date has been in-person visits made to outpatient departments (OPDs) and emergency departments (EDs) of non-Federal, short stay hospitals (hospitals with an average length of stay of less than 30 days) or those whose specialty is general (medical or surgical) or children's general.

This revision is to transfer data gathering from the previously conducted National Survey of Ambulatory Surgery (NSAS) (OMB No. 0920-0334) to NHAMCS. After the 1994-1996 NSAS, funds were not available to gather this important, and much sought after, data until 2006. Due to a lack of funds it has not been possible to conduct an independent NSAS since that time and so, for 2009, NCHS proposes to begin the expansion of NHAMCS data gathering to include hospital-based ambulatory surgery centers (ASCs). Beginning in 2010, NCHS plans to seek OMB approval to expand NHAMCS to also include free-standing ASCs. The objective of this new collection will be to collect data about ambulatory surgery centers, the patients they serve, and the services they deliver. It will remain the principal source of data on ambulatory surgery center services in the United States. It has been the benchmark against which special programmatic data sources are compared. NHAMCS ASC data that will be collected include patient characteristics, diagnoses, surgical and nonsurgical procedures, provider and type of anesthesia, time in and out of surgery and postoperative care, and discharge disposition.

Users of NHAMCS data include, but are not limited to, congressional offices, Federal agencies, state and local governments, schools of public health, colleges and universities, private industry, nonprofit foundations, professional associations, clinicians, researchers, administrators, and health planners. There are no costs to the respondents other than their time. The total estimated annualized burden hours are 9,186.

Estimated Annualized Burden Hours
Type of respondent | Form name | Number of respondents | Number of responses per respondent | Average burden per response (in hours)
Hospital Chief Medical Officer | Hospital Induction (NHAMCS-101) | 470 | 1 | 55/60
Ancillary Service Executive | Ambulatory Unit Induction (NHAMCS-101/U) | 845 | 2 | 1
Physician/Registered Nurse/Medical Record Clerk | ED Patient Record form NHAMCS-100 (ED)] | 220 | 100 | 7/60
Medical Record Clerk | Pulling and re-filing Patient Records | 393 | 132 | 1/60
Physician/Registered Nurse/Medical Record Clerk | OPD Patient Record form [NHAMCS-100 (OPD)] | 125 | 200 | 6/60
Physician/Phys. Asst./Nurse Practitioner/Nurse Midwife | Cervical Cancer Screening Supplement (CCSS) (NHAMCS-906) | 250 | 1 | 15/60
Physician/Registered Nurse/Medical Record Clerk | ASC Patient Record form NHAMCS-100 (ASC) | 107 | 100 | 6/60

Dated: July 24, 2008.
Maryam I. Daneshvar,
Acting Reports Clearance Officer, Centers for Disease Control and Prevention.

[FR Doc. E8-17603 Filed 7-31-08; 8:45 am]

BILLING CODE 4163-18-P